DEPARTMENT OF COMMERCE

Patent and Trademark Office

Performance Review Board

AGENCY: United States Patent and Trademark Office, Department of Commerce.

ACTION: Announcement of membership of the United States Patent and Trademark Office Performance Review Board.

SUMMARY: In conformance with the Civil Service Reform Act of 1978, 5 U.S.C. 4314(c)(4), the United States Patent and Trademark Office announces the appointment of persons to serve as members of its Performance Review Board.

ADDRESSES: Comments should be addressed to the Director, Office of Human Resources, United State Patent and Trademark Office, One Crystal Park, Suite 707, Washington, DC 20231.

FOR FURTHER INFORMATION CONTACT: Sydney Rose at (703) 305-8062.

SUPPLEMENTARY INFORMATION: The membership of the United States Patent and Trademark Office Performance Review Board is as follows:

Clarence Crawford, Chair, Chief Financial Officer and Chief Administrative Officer, United States Patent and Trademark Office, Washington, DC 20231, Term—expires September 30, 2003

Nicholas Godici, Commissioner for Patents, United States Patent and Trademark Office, Washington, DC 20231, Term—expires September 30, 2003

Anne Chasser, Commissioner for Trademarks, United States Patent and Trademark Office, Washington, DC 20231, Term—expires September 30, 2003

Dennis Shaw, Chief Information Officer, United States Patent and Trademark Office, Washington, DC 20231, Term—expires September 30, 2003

Janice A. Howell, Director, Patent Examining Group, United States Patent and Trademark Office, Washington, DC 20231, Term—expires September 30, 2003

Albin F. Drost, Acting General Counsel, United States Patent and Trademark Office, Washington, DC 20231, Term—expires September 30, 2003

Robert M. Anderson, Deputy Commissioner for Trademarks, United States Patent and Trademark Office, Washington, DC 20231, Term—expires September 30, 2003

Robert Stoll, Administrator for External Affairs, United States Patent and Trademark Office, Washington, DC 20231, Term—expires September 30, 2003

H. Dieter Hoinkes, Deputy Administrator for Legislative and International Affairs, United States Patent and Trademark Office, Washington, DC 20231, Term—expires September 30, 2003

Gerald R. Lucas, Deputy Chief Financial Office/Administrative Officer, Department of Commerce, Washington, DC 20231, Term—expires September 30, 2001

Bruce Campbell, Executive Associate Director, Operations Support Directorate, Federal Emergency Management Agency, Washington, DC 20742, Term—expires September 30, 2002.

Dated: August 21, 2000.
Q. Todd Dickinson,
Intellectual Property and Director of the United States Patent and Trademark Office.

[FR Doc. 00-21753 Filed 8-24-00; 8:45 am]

BILLING CODE 3510-16-M